NATIONAL TRANSPORTATION SAFETY BOARD

Sunshine Act Meeting

Agenda

TIME: 9:30 a.m., Thursday, February 26, 2004.

PLACE: NTSB Conference Center, 429 L'Enfant Plaza SW., Washington, DC 20594.

STATUS: The one item is Open to the public.

MATTERS TO BE CONSIDERED:

77545B Aviation Accident Report—Loss of Pitch Control During Takeoff, Air Midwest (Doing Business as US Airways Express) Flight 5481, Raytheon (Beechcraft) 1900D, N233YV, Charlotte, North Carolina, January 8, 2003

NEWS MEDIA CONTACT: Telephone: (202) 314-6100.

Individuals requesting specific accommodations should contact Ms. Carolyn Dargan at (202) 314-6305 by Friday, February 20, 2004.

The public may view the meeting via a live or archived webcast by accessing a link under “News & Events” on the NTSB Home page at http://www.ntsb.gov.

FOR FURTHER INFORMATION CONTACT: Vicky D'Onofrio, (202) 314-6410.

Dated: February 13, 2004.
Vicky D'Onofrio,
Federal Register Liaison Officer.

[FR Doc. 04-3624 Filed 2-13-04; 1:54 pm]

BILLING CODE 7533-01-M